DEPARTMENT OF HOMELAND SECURITY

Coast Guard

[Docket No. USCG-2011-0357]

Cruise Vessel Safety and Security Act of 2010, Available Technology

AGENCY: Coast Guard, DHS.

ACTION: Notice of request for comments; correction.

SUMMARY: In the Federal Register published on May 25, 2011, the United States Coast Guard solicited public comment on the availability of technology to meet certain provisions of the Cruise Vessel Security and Safety Act of 2010(CVSSA), specifically related to video recording and overboard detection technologies. The Notice of request for comments published with errors in the preamble, specifically, the addresses for submitting comments was incorrect and should have directed commenters to http://www.regulations.gov for online comment submissions, and to the “Docket Management Facility (M-30), U.S. Department of Transportation, West Building Ground Floor, Room W12-140, 1200 New Jersey Avenue, SE., Washington, DC 20590-0001” for mailing comments.

DATES: This correction is effective May 31, 2011.

FOR FURTHER INFORMATION CONTACT: For information about this correction, contact Jennifer Mehaffey, Office of Regulations and Administrative Law, (202) 372-3859, or by email at jennifer.a.mehaffey@uscg.mil. For information about the original regulation, call or e-mail Lieutenant Commander Latasha Pennant, Office of Design and Engineering Standards (CG-5211), U.S. Coast Guard Headquarters, by telephone at 202-372-1358, or by e-mail at Latasha.E.Pennant@uscg.mil.

SUPPLEMENTARY INFORMATION: In FR doc 2011-12988 appearing on page 30374 in the issue of Wednesday, May 25, 2011, the following corrections are made:

1. On page 30374, in the second column, revise the ADDRESSES section, to read as follows:

“ADDRESSES: You may submit comments identified by docket number USCG-2011-0357 using any one of the following methods:

(1) Federal eRulemaking Portal: http://www.regulations.gov.

(2) Fax: 202-372-1925.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.”

2. On page 30374, in the third column, revise the SUPPLEMENTARY INFORMATION section, to read as follows:

“Public Participation and Request for Comments

We encourage you to submit comments and related material. All comments received will be posted, without change, to http://www.regulations.gov and will include any personal information you have provided.

Submitting comments: If you submit a comment, please include the docket number for this notice (USCG-2011-0357) and provide a reason for each comment or recommendation. You may submit your comments and material online, or by fax, mail or hand delivery, but please use only one of these means. We recommend that you include your name and a mailing address, an e-mail address, or a telephone number in the body of your document so that we can contact you if we have questions regarding your submission.

To submit your comment online, go to http://www.regulations.gov and type “USCG-2011-0357” in the “Keyword” box. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and related material: To view the comments go to http://www.regulations.gov, click on the “read comments” box, which will then become highlighted in blue. In the “Keyword” box insert “USCG-2011-0357” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).”

Dated: May 25, 2011.
Kathryn Sinniger,
Office of Regulations and Administrative Law (CG-0943), U.S. Coast Guard.

[FR Doc. 2011-13437 Filed 5-27-11; 8:45 am]

BILLING CODE 9110-04-P